DEPARTMENT OF COMMERCE

National Oceanic and Atmospheric Administration

Membership of the National Oceanic and Atmospheric Administration Performance Review Board

AGENCY: National Oceanic and Atmospheric Administration (NOAA), Department of Commerce.

ACTION: Notice of Membership of the NOAA Performance Review Board.

SUMMARY: In accordance with 5 U.S.C. 4314(c)(4), NOAA announces the appointment of twenty-three members to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees. The appointment of members to the NOAA PRB will be for a period of 24 months.

DATES: Effective Date: The effective date of service of the twenty-three appointees to the NOAA Performance Review Board is October 13, 2006.

FOR FURTHER INFORMATION CONTACT: Claudia McMahon, Executive Resources Program Manager, Workforce Management Office, NOAA, 1305 East-West Highway, Silver Spring, Maryland 20910, (301) 713-6306.

SUPPLEMENTARY INFORMATION: The names and position titles of the members of the NOAA PRB are set forth below (all are NOAA officials except Tyra D. Smith, Director, Human Resources, Bureau of the Census, Department of Commerce; William J. Fleming, Deputy Director for Human Resources Management, Office of Human Resources Management, Department of Commerce:

John E. Oliver, Jr., Deputy Assistant Administrator for Operations, National Marine Fisheries Service.

Craig N. McLean, Deputy Assistant Administrator for Programs and Administration, Office of Oceanic and Atmospheric Research.

John E. Jones, Jr., Deputy Assistant Administrator for Weather Services, National Weather Service.

Charles S. Baker, Chief Financial Officer, Chief Administrative Officer for Environmental Satellite, Data and Information, National Environmental Satellite, Data and Information Service.

Bonnie L. Morehouse, Director, Program Analysis and Evaluation.

Maureen E. Wylie, Chief Financial Officer.

Timothy R.E. Kenney, Deputy Assistant Secretary.

Elizabeth R. Scheffler, Associate Assistant Administrator for Management and CFO/CAO, National Ocean Service.

Tyra D. Smith, Director, Human Services, Bureau of the Census, Department of Commerce.

David M. Kennedy, Director for Ocean and Coastal Resource Management, National Ocean Service.

Steven A. Murawski, Director, Scientific Programs and Chief Science Advisor, National Marine Fisheries Service.

Alexander E. MacDonald, Deputy Assistant Administrator for Laboratories and Cooperative Institutes and Director, ESRL, Office of Oceanic and Atmospheric Research.

Ants Leetmaa, Director, Geophysical Fluid Dynamics Laboratory, Office of Oceanic and Atmospheric Research.

Helen H. Hurcombe, Director, Acquisition and Grants Office.

Gregory A. Mandt, Director, Science and Technology, National Weather Service.

Louis W. Uccellini, Director, National Centers for Environmental Prediction, National Weather Service.

Samuel D. Rauch III, Deputy Assistant Administrator for Regulatory Programs, National Marine Fisheries Service.

Steven I. Gallagher, Director, Budget Office.

William F. Broglie, Chief Administrative Officer.

Kathleen A. Kelly, Director, Office of Satellite Operations, National Environmental Satellite, Data and Information Service.

Daniel J. Basta, Director, Office of National Marine Sanctuaries, National Ocean Service.

Jordan P. St. John, Director, Office of Public and Constituent Affairs.

William J. Fleming, Deputy Director for Human Resources Management, Department of Commerce.

Dated: September 29, 2006.
Conrad C. Lautenbacher, Jr.,
Vice Admiral, U.S. Navy (Ret.), Under Secretary of Commerce for Oceans and Atmosphere.

[FR Doc. 06-8575 Filed 10-10-06; 8:45 am]

BILLING CODE 3510-12-M